DEPARTMENT OF TRANSPORTATION

Federal Highway Administration

Rescission of a Notice of Intent (NOI) To Prepare an Environmental Impact Statement (EIS)

AGENCY: Federal Highway Administration (FHWA), Department of Transportation.

ACTION: Notice.

SUMMARY: The FHWA is issuing this notice to advise the public that we are rescinding the 2002 NOI to prepare an EIS for the proposed construction of a new segment of Interstate 66 (I-66) between the Somerset Northern Bypass and London, Kentucky.

FOR FURTHER INFORMATION CONTACT: Thomas Nelson, Jr., Division Administrator, Federal Highway Administration, Kentucky Division, 330 South Broadway Street, Frankfort, Kentucky, 40601, Telephone: (502) 223-6720.

SUPPLEMENTARY INFORMATION: The FHWA, as the lead Federal agency, in cooperation with the Kentucky Transportation Cabinet (KYTC), published a NOI on April 29, 2002 to prepare an EIS for the construction of a new segment of I-66 between the Somerset Northern Bypass and London, Kentucky. Subsequently, FHWA and KYTC developed a DEIS that was signed on June 1, 2006. FHWA hereby advises the public, after coordination with the KYTC, that we are rescinding the NOI for the project and cancelling any work associated with the EIS due to the potential significant environmental impacts and the lack of future programmed funding.

Any future Federal-aided action within this corridor will comply with the environmental review requirements of the National Environmental Policy Act (NEPA) (42 U.S.C. 4321), FHWA environmental regulations (23 CFR 771) and related authorities, as appropriate. Comments and questions concerning this action should be directed to FHWA at the address provided above.

Issued on: June 25, 2018
Thomas Nelson, Jr.,
Division Administrator, FHWA Kentucky Division, Frankfort, Kentucky.

[FR Doc. 2018-14157 Filed 6-29-18; 8:45 am]

BILLING CODE 4910-22-P